DEPARTMENT OF LABOR

Employment and Training Administration

[TA-W-63,320]

Wyeth Company: Andover, MA; Cambridge, MA; Notice of Termination of Investigation

Pursuant to Section 221 of the Trade Act of 1974, as amended, an investigation was initiated on May 6, 2008 in response to a worker petition filed by the Massachusetts Workforce Development on behalf of workers at Wyeth Company, Andover and Cambridge, Massachusetts.

The petitioner has requested that the petition be withdrawn. Consequently, the investigation has been terminated.

Signed at Washington, DC, this 21st day of May 2008.
Richard Church,
Certifying Officer, Division of Trade Adjustment Assistance.

[FR Doc. E8-11908 Filed 5-28-08; 8:45 am]

BILLING CODE 4510-FN-P